DEPARTMENT OF ENERGY

Federal Energy Regulatory Commission

Combined Notice of Filings #1

Take notice that the Commission received the following electric corporate filings:

Docket Numbers: EC19-46-000.

Applicants: Orange and Rockland Utilities, Inc.

Description: Application for order pursuant to Section 203 of the Federal Power Act of Orange and Rockland Utilities, Inc.

Filed Date: 1/15/19.

Accession Number: 20190115-5229.

Comments Due: 5 p.m. ET 2/5/19.

Take notice that the Commission received the following electric rate filings:

Docket Numbers: ER10-2437-012.

Applicants: Arizona Public Service Company.

Description: Supplement to December 28, 2018 Triennial Market Power Update of Arizona Public Service Company.

Filed Date: 1/11/19.

Accession Number: 20190111-5209.

Comments Due: 5 p.m. ET 2/26/19.

Docket Numbers: ER15-1218-007.

Applicants: Solar Star California XIII, LLC.

Description: Compliance filing: Supplemental Notice of Tariff Updates to be effective 1/16/2019.

Filed Date: 1/15/19.

Accession Number: 20190115-5192.

Comments Due: 5 p.m. ET 2/5/19.

Docket Numbers: ER16-1157-001.

Applicants: Kingbird Solar B, LLC.

Description: Compliance filing: Supplemental Notice of Tariff Updates to be effective 1/16/2019.

Filed Date: 1/15/19.

Accession Number: 20190115-5193.

Comments Due: 5 p.m. ET 2/5/19.

Docket Numbers: ER17-1522-001; ER17-1324 002.

Applicants: Playa Solar 1, LLC, Playa Solar 2, LLC.

Description: Notice of Non-Material Change in Status of Playa Solar 1, LLC, et al.

Filed Date: 1/11/19.

Accession Number: 20190111-5200.

Comments Due: 5 p.m. ET 2/1/19.

Docket Numbers: ER18-2410-001.

Applicants: Public Service Company of Colorado.

Description: Tariff Amendment: 2019-01-15 Deficiency Filing in ER18-2410 to be effective 1/1/2019.

Filed Date: 1/15/19.

Accession Number: 20190115-5145.

Comments Due: 5 p.m. ET 2/5/19.

Docket Numbers: ER19-358-000; ER19-359-000.

Applicants: DG Whitefield LLC.

Description: Supplement to November 16, 2018 DG Whitefield LLC, et al. tariff filings.

Filed Date: 1/11/19.

Accession Number: 20190111-5213.

Comments Due: 5 p.m. ET 2/1/19.

Docket Numbers: ER19-752-000.

Applicants: East Avenue Energy, LLC.

Description: Report Filing: Amended MBR Cancellation Filing to be effective N/A.

Filed Date: 1/15/19.

Accession Number: 20190115-5119.

Comments Due: 5 p.m. ET 2/5/19.

Docket Numbers: ER19-806-000.

Applicants: PacifiCorp.

Description: § 205(d) Rate Filing: 3 Phases Renewables (OR D.A.) Rev 1 to be effective 1/1/2019.

Filed Date: 1/15/19.

Accession Number: 20190115-5000.

Comments Due: 5 p.m. ET 2/5/19.

Docket Numbers: ER19-807-000.

Applicants: Southwestern Electric Power Company.

Description: § 205(d) Rate Filing: SWEPCO-ETEC E Burgess DPA to be effective 12/22/2018.

Filed Date: 1/15/19.

Accession Number: 20190115-5001.

Comments Due: 5 p.m. ET 2/5/19.

Docket Numbers: ER19-808-000.

Applicants: American Transmission Systems, Incorporated, PJM Interconnection, L.L.C.

Description: § 205(d) Rate Filing: ATSI submits two ECSAs, Service Agreement Nos. 5136 and 5201 with Ohio Edison to be effective 3/19/2019.

Filed Date: 1/15/19.

Accession Number: 20190115-5101.

Comments Due: 5 p.m. ET 2/5/19.

Docket Numbers: ER19-809-000.

Applicants: Midcontinent Independent System Operator, Inc.

Description: § 205(d) Rate Filing: 2019-01-15_Rate Schedule 51_BREC-HMPL JPZ Revenue Allocation Agreement to be effective 2/1/2019.

Filed Date: 1/15/19.

Accession Number: 20190115-5123.

Comments Due: 5 p.m. ET 2/5/19.

Docket Numbers: ER19-810-000.

Applicants: Alabama Power Company.

Description: § 205(d) Rate Filing: First Amendment to Transition Services Agreement Filing to be effective 1/2/2019.

Filed Date: 1/15/19.

Accession Number: 20190115-5125.

Comments Due: 5 p.m. ET 2/5/19.

Docket Numbers: ER19-811-000.

Applicants: Midcontinent Independent System Operator, Inc.

Description: § 205(d) Rate Filing: 2019-01-15_Annual Schedule 31 Update to be effective 4/1/2019.

Filed Date: 1/15/19.

Accession Number: 20190115-5126.

Comments Due: 5 p.m. ET 2/5/19.

Docket Numbers: ER19-812-000.

Applicants: Macho Springs Power I, LLC.

Description: § 205(d) Rate Filing: Amendment to Market-Based Rate Notice of Change in Status to be effective 12/28/2018.

Filed Date: 1/15/19.

Accession Number: 20190115-5127.

Comments Due: 5 p.m. ET 2/5/19.

Docket Numbers: ER19-813-000.

Applicants: Broken Bow Wind II, LLC.

Description: § 205(d) Rate Filing: Notice of Change in Status and MBR Tariff Updates to be effective 1/16/2019.

Filed Date: 1/15/19.

Accession Number: 20190115-5152.

Comments Due: 5 p.m. ET 2/5/19.

Docket Numbers: ER19-815-000.

Applicants: South Carolina Electric & Gas Company.

Description: § 205(d) Rate Filing: Southeastern Power Admin NITSA to be effective 1/1/2019.

Filed Date: 1/15/19.

Accession Number: 20190115-5168.

Comments Due: 5 p.m. ET 2/5/19.

Docket Numbers: ER19-816-000.

Applicants: AEP Texas Inc.

Description: § 205(d) Rate Filing: AEPTX-Las Lomas Wind Energy Interconnection Agreement to be effective 12/22/2018.

Filed Date: 1/15/19.

Accession Number: 20190115-5171.

Comments Due: 5 p.m. ET 2/5/19.

Docket Numbers: ER19-817-000.

Applicants: Public Service Company of New Hampshire.

Description: Tariff Cancellation: Cancellation of Essential Power Design, Engineering, and Construction Agreement to be effective 1/15/2019.

Filed Date: 1/15/19.

Accession Number: 20190115-5198.

Comments Due: 5 p.m. ET 2/5/19.

Take notice that the Commission received the following electric securities filings:

Docket Numbers: ES19-8-000.

Applicants: Rockland Electric Company.

Description: Application under Section 204 of the Federal Power Act for Authorization to Issue Securities of Rockland Electric Company.

Filed Date: 1/15/19.

Accession Number: 20190115-5206.

Comments Due: 5 p.m. ET 2/5/19.

Take notice that the Commission received the following public utility holding company filings:

Docket Numbers: PH19-7-000.

Applicants: Starwood Energy Group Global, L.L.C.

Description: Starwood Energy Group Global, L.L.C. submits FERC 65-B Notice of Change in Facts of Waiver Notification.

Filed Date: 1/11/19.

Accession Number: 20190111-5202.

Comments Due: 5 p.m. ET 2/1/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 11, 2019.
Nathaniel J. Davis, Sr.,
Deputy Secretary.

[FR Doc. 2019-00520 Filed 1-30-19; 8:45 am]

BILLING CODE 6717-01-P